DEPARTMENT OF THE TREASURY

Internal Revenue Service

Open Meeting of the Area 1 Taxpayer Advocacy Panel (Including the States of New York, Connecticut, Massachusetts, Rhode Island, New Hampshire, Vermont, and Maine)

AGENCY: Internal Revenue Service (IRS), Treasury.

ACTION: Notice.

SUMMARY: An open meeting of the Area 1 Taxpayer Advocacy Panel will be conducted in Portsmouth, New Hampshire. The Taxpayer Advocacy Panel is soliciting public comments, ideas, and suggestions on improving customer service at the Internal Revenue Service.

DATES: The meeting will be held Monday, September 27 and Tuesday, September 28, 2004.

FOR FURTHER INFORMATION CONTACT: Marisa Knispel at 1-888-912-1227 (toll-free), or 718-488-3557 (non toll-free).

SUPPLEMENTARY INFORMATION: An open meeting of the Area 1 Taxpayer Advocacy Panel will be held Monday, September 27, 2004 from 9am EDT to 5pm EDT at the Entergy Training Building located at 185 Old Ferry Road, Brattleboro, Vermont and Tuesday, September 28, 2004 from 9am EDT to 3pm EDT at the Holiday Inn Express located at 100 Chickering Road, Brattleboro, VT 05301. Individual comments are welcomed and will be limited to 5 minutes per person. If you would like to have the TAP consider a written statement write Marisa Knispel, TAP Office, 10 MetroTech Center, 625 Fulton Street, Brooklyn, NY 11201, or, you may post comments to the Web site: http://www.improveirs.org.

The agenda will include: Various IRS issues.

Dated: September 1, 2004.
Bernard E. Coston,
Director, Taxpayer Advocacy Panel.

[FR Doc. 04-20246 Filed 9-3-04; 8:45 am]

BILLING CODE 4830-01-P